DEPARTMENT OF ENERGY

Federal Energy Regulatory Commission

[Docket No. IC19-45-000]

Commission Information Collection Activities (FERC Form 580) Comment Request; Extension

AGENCY: Federal Energy Regulatory Commission.

ACTION: Notice of information collection and request for comments.

SUMMARY: In compliance with the requirements of the Paperwork Reduction Act of 1995 (PRA), the Federal Energy Regulatory Commission (Commission or FERC) is soliciting public comment on the currently approved information collection, FERC Form 580 (Interrogatory on Fuel and Energy Purchase Practices Pursuant to Section 205 of the Federal Power Act).

DATES: Comments on the collection of information are due December 2, 2019.

ADDRESSES: You may submit comments (identified by Docket No. IC19-45-000) by either of the following methods:

• eFiling at Commission's website: http://www.ferc.gov/docs-filing/efiling.asp

• Mail/Hand Delivery/Courier: Federal Energy Regulatory Commission, Secretary of the Commission, 888 First Street NE, Washington, DC 20426.

Instructions: All submissions must be formatted and filed in accordance with submission guidelines at: http://www.ferc.gov/help/submission-guide.asp. For user assistance, contact FERC Online Support by email at ferconlinesupport@ferc.gov, or by phone at: (866) 208-3676 (toll-free), or (202) 502-8659 for TTY.

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov, telephone at (202) 502-8663, and fax at (202) 273-0873.

SUPPLEMENTARY INFORMATION:

Title: FERC Form 580, (Interrogatory on Fuel and Energy Purchase Practices Pursuant to Section 205 of the Federal Power Act).

OMB Control No.: 1902-0137.

Type of Request: Three-year extension of the FERC Form 580 with no changes to the current reporting requirements.

Abstract: The Commission collects FERC Form 580 information every other year as required under Section 205(f)(2) of the FPA as amended by Section 208 of the Public Utility Regulatory Policies Act of 1978 (PURPA). The Commission uses the information collected through the FERC Form 580 interrogatory to review utility purchase and cost recovery practices through automatic adjustment clauses (AACs) in order to ensure efficient use of resources.¹ The Commission uses the information to evaluate costs in individual rate filings and to supplement periodic utility audits. The public also uses the information in this manner. Without the FERC Form 580 interrogatory, the Commission would not have the requisite information available to conduct the necessary review the FPA mandates.

¹ By using the data in FERC Form 580, the Commission is able to review utility purchase and cost recovery practices and ensure the resources are in compliance with Commission regulations in 18 CFR 35.14

Type of Respondents: The filing must be submitted by all FERC-jurisdictional utilities owning and/or operating at least one steam-electric generating station of 50 MW or greater capacity or having a majority ownership interest in a jointly-owned steam-electric generating station of at least 50 MW. A jurisdictional utility without a cost-based tariff on file with the Commission is not required to file the form.

Estimate of Annual Burden.² The Commission estimates the annual ³ public reporting burden and cost ⁴ for the information collection as:

² Burden is defined as the total time, effort, or financial resources expended by persons to generate, maintain, retain, or disclose or provide information to or for a federal agency. See 5 CFR 1320 for additional information on the definition of information collection burden.

³ The FERC Form 580 interrogatory is conducted every two years.

⁴ The estimates for cost per response are derived using the 2019 FERC average salary plus benefits of $167,091/year (or $80.00/hour). Commission staff finds that the work done on this information collection is typically done by wage categories like those at FERC.

FERC Form 580 (Interrogatory on Fuel and Energy Purchase Practices Pursuant to Section 205 of the Federal Power Act)
| Number of respondents | Annual number of responses per respondent | Total number of responses | Average burden and cost per response | Total annual burden hours and total annual cost | Annual cost per respondent ($)
| (1) | (2) | (1) * (2) = (3) | (4) | (3) * (4) = (5) | (5) ÷ (1)
Respondents with FACs ⁵ | 29 | 0.5 | 14.5 | 103 hrs.; $8,240 | 1,493.5 hrs.; $119,480.00 | $4,120.00
Respondents with AACs, but no FACs | 9 | 0.5 | 4.5 | 20 hrs.; $1,600 | 90 hrs.; $7,200.00 | 800
Respondents with no AACs nor FACs | 28 | 0.5 | 14 | 2 hrs.; $160 | 28 hrs.; $2,240.00 | 80.00
Total |  |  | 33 |  | 1,611.5 hrs.; $128,920.00 |

Comments: Comments are invited on: (1) Whether the collection of information are necessary for the proper performance of the functions of the Commission, including whether the information will have practical utility; (2) the accuracy of the agency's estimates of the burden and cost of the collection of information, including the validity of the methodology and assumptions used; (3) ways to enhance the quality, utility and clarity of the information collection; and (4) ways to minimize the burden of the collection of information on those who are to respond, including the use of automated collection techniques or other forms of information technology.

⁵ Fuel Adjustment Clause (FAC)

Dated: September 25, 2019.
Nathaniel J. Davis, Sr.,
Deputy Secretary.

[FR Doc. 2019-21337 Filed 9-30-19; 8:45 am]

BILLING CODE 6717-01-P